DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

TIME AND DATE: May 16, 2019 10:00 a.m.

PLACE: Room 2C, 888 First Street NE, Washington, DC 20426.

STATUS: OPEN.

MATTERS TO BE CONSIDERED: Agenda

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1056th Meeting—Open Meeting
[May 16, 2019—10:00 a.m.]
Item No. | Docket No. | Company
Administrative
A-1 | AD19-1-000 | Agency Administrative Matters.
A-2 | AD19-2-000 | Customer Matters, Reliability, Security and Market Operations.
A-3 | AD19-14-000 | 2019 Summer Energy Market and Reliability Assessment.
Electric
E-1 | RM16-23-001 | Electric Storage Participation in Markets Operated by Regional Transmission Organizations and Independent System Operators.
| AD16-20-001 | Electric Storage Participation in Regions with Organized Wholesale Electric Markets.
E-2 | EL16-108-000 | Tilton Energy LLC v. Midcontinent Independent System Operator, Inc.
| EL17-29-000 | American Municipal Power, Inc. v. Midcontinent Independent System Operator, Inc.
| EL17-31-000 | Northern Illinois Municipal Power Agency v. PJM, Interconnection, L.L.C.
| EL17-37-000 | American Municipal Power, Inc. v. PJM Interconnection, L.L.C.
| EL17-54-000 (consolidated) | Dynegy Marketing and Trade, LLC and Illinois Power, Marketing Company v. Midcontinent Independent System Operator, Inc.
E-3 | EL17-29-000 | American Municipal Power, Inc. v. Midcontinent, Independent System Operator, Inc.
| EL16-108-000 | Tilton Energy LLC v. Midcontinent Independent System Operator, Inc.
| EL17-31-000 | Northern Illinois Municipal Power Agency v. PJM, Interconnection, L.L.C.
| EL17-37-000 | American Municipal Power, Inc. v. PJM Interconnection, L.L.C.
| EL17-54-000 (consolidated) | Dynegy Marketing and Trade, LLC and Illinois Power, Marketing Company v. Midcontinent Independent System Operator, Inc.
E-4 | EL17-31-000 | Northern Illinois Municipal Power Agency v. PJM Interconnection, L.L.C.
| EL17-37-000 | American Municipal Power, Inc. v. PJM Interconnection, L.L.C.
| EL16-108-000 | Tilton Energy LLC v. Midcontinent Independent System Operator, Inc.
| EL17-29-000 | American Municipal Power, Inc. v. Midcontinent, Independent System Operator, Inc.
| EL17-54-000 (consolidated) | Dynegy Marketing and Trade, LLC and Illinois Power, Marketing Company v. Midcontinent Independent System Operator, Inc.
E-5 | EL17-54-000 (consolidated) | Dynegy Marketing and Trade, LLC and Illinois Power, Marketing Company v. Midcontinent Independent System Operator, Inc.
| EL16-108-000 | Tilton Energy LLC v. Midcontinent Independent System Operator, Inc.
| EL17-29-000 | American Municipal Power, Inc. v. Midcontinent, Independent System Operator, Inc.
| EL17-31-000 | Northern Illinois Municipal Power Agency v. PJM, Interconnection, L.L.C.
| EL17-37-000 | American Municipal Power, Inc. v. PJM Interconnection, L.L.C.
E-6 | RM05-5-027 | Standards for Business Practices and Communication, Protocols for Public Utilities.
E-7 | EL18-138-000 | Midcontinent Independent System Operator, Inc. ALLETE, Inc. Montana-Dakota Utilities Co. Northern Indiana Public Service Company Otter Tail Power Company Southern Indiana Gas & Electric Company.
| ER18-1793-001 | Midcontinent Independent System Operator, Inc.
E-8 | EL18-157-000 | American Transmission Company LLC.
| ER19-838-000 | Midcontinent Independent System Operator, Inc.
E-9 | EL18-158-000 | GridLiance West LLC.
| ER17-706-006 |
E-10 | EL18-159-000 | International Transmission Company.
| EL18-160-000 | ITC Midwest, LLC.
| ER18-2323-002 | Midcontinent Independent System Operator, Inc.
E-11 | EL18-164-000 | Southern California Edison Company.
| ER19-845-000 |
E-12 | EL18-165-000 | TransCanyon DCR, LLC.
| ER15-1682-006 |
E-13 | EL18-167-000 | Virginia Electric and Power Company.
| ER19-839-001 | PJM Interconnection, L.L.C.
E-14 | EL19-16-000 | Michigan Electric Transmission Company, LLC.
| ER18-2323-001 | Midcontinent Independent System Operator, Inc.
E-15 | EL18-172-000 | American Municipal Power, Inc.
E-16 | EL18-174-000 | American Municipal Power, Inc.
E-17 | EL19-40-000 | Florida Municipal Power Agency v. Duke Energy Florida, LLC.
E-18 | EL19-30-000 | LS Power Grid New York, LLC. LS Power Grid New York Corporation I.
E-19 | EC19-68-000 | Clearway Energy Group LLC. Clearway Energy, Inc.
E-20 | ER19-366-000 ER19-366-001 | Public Service Company of Colorado.
Miscellaneous
M-1 | PL10-2-003 | Enforcement of Statutes, Regulations, and Orders.
Gas
G-1 | RP18-923-000 RP18-923-002 RP18-923-003 RP18-923-005 | Enable Mississippi River Transmission, LLC.
G-2 | RP19-996-000 | Apache Corporation Red Wolf Acquisitions, LLC.
G-3 | RP18-987-001 RP18-990-001 | Transcontinental Gas Pipe Line Company, LLC.
Hydro
H-1 | P-2242-078 | Eugene Water & Electric Board.
Certificates
C-1 | CP19-34-000 | Alliance Pipeline L.P.
C-2 | CP17-470-000 | Freeport LNG Development, L.P. FLNG Liquefaction 4, LLC.

Issued: May 9, 2019.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-10044 Filed 5-10-19; 4:15 pm]

BILLING CODE 6717-01-P